NATIONAL ARCHIVES AND RECORDS ADMINISTRATION

[NARA-2016-036]

Agency Information Collection Activities: Proposed Collection; Comment Request

AGENCY: National Archives and Records Administration (NARA).

ACTION: Notice of proposed extension request.

SUMMARY: NARA proposes to request an extension from the Office of Management and Budget (OMB) of approval to use a consent and authorization form. Requesters use the form to authorize NARA's Office of Government Information Services (OGIS) to make inquiries on their behalf and to authorize agencies to release information and records related to their Freedom of Information Act/Privacy Act requests/appeals. We invite you to comment on this proposed information collection pursuant to the Paperwork Reduction Act of 1995.

DATES: We must receive written comments on or before August 22, 2016.

ADDRESSES: Send comments to Paperwork Reduction Act Comments (ISSD), Room 4400; National Archives and Records Administration; 8601 Adelphi Road; College Park, MD 20740-6001, fax them to 301-713-7409, or email them to tamee.fechhelm@nara.gov.

FOR FURTHER INFORMATION CONTACT: Contact Tamee Fechhelm by telephone at 301-837-1694 or fax at 301-713-7409 with requests for additional information or copies of the proposed information collection and supporting statement.

SUPPLEMENTARY INFORMATION: Pursuant to the Paperwork Reduction Act of 1995 (Pub. L. 104-13), NARA invites the public and other Federal agencies to comment on proposed information collections. The comments and suggestions should address one or more of the following points: (a) Whether the proposed information collection is necessary for NARA to properly perform its functions; (b) NARA's estimate of the burden of the proposed information collection and its accuracy; (c) ways NARA could enhance the quality, utility, and clarity of the information it collects; (d) ways NARA could minimize the burden on respondents of collecting the information, including through information technology; and (e) whether this collection affects small businesses. We will summarize any comments you submit and include the summary in our request for OMB approval. All comments will become a matter of public record. In this notice, NARA solicits comments concerning the following information collection:

Title: Consent to Make Inquiries and Release of Information and Records.

OMB Number: 3095-0068.

Agency Form Number: NA Form 10003.

Type of Review: Regular.

Affected Public: Individuals or households, business or other for-profit, not-for-profit institutions, and Federal Government.

Estimated Number of Respondents: 400.

Estimated Time per Response: 2 minutes.

Frequency of Response: On occasion.

Estimated Total Annual Burden Hours: 13 hours.

Abstract: In order to fulfill its Government-wide statutory mission, OGIS provides varying types of assistance to its customers, which requires communicating with Government departments and agencies regarding the customer's FOIA/Privacy Act request/appeal. Under the Privacy Act, the agencies may not share peoples' personal information without either a routine use that they inform people of prior to gathering the information, or permission from the involved person. As a result, OGIS uses NA Form 10003 to collect that authorization and the identifying information necessary for the agency to identify the correct files so that OGIS may provide the requested assistance. Without the information submitted in NA Form 10003, OGIS would be unable to fulfill its mission or provide assistance to requesters. Requesters use the NA Form 10003, OGIS Consent to Make Inquiries and Release of Information and Records, to (1) request that OGIS make inquiries on their behalf and (2) authorize agencies to release records and information related to their FOIA and Privacy Act requests and appeals so that OGIS can assist in resolving the dispute or in providing information to the requester. The authority for this information collection is prescribed by 5 U.S.C. 552a(b), and as interpreted by Taylor v. Orr, No. 83-0389, 1983 U.S. Dist. LEXIS 20334, at *6 n.6 (D.D.C. Dec. 5, 1983).

Dated: June 13, 2016.
Swarnali Haldar,
Executive for Information Services/CIO.

[FR Doc. 2016-14629 Filed 6-20-16; 8:45 am]

BILLING CODE 7515-01-P